ENVIRONMENTAL PROTECTION AGENCY

40 CFR Part 300

[FRL-6842-5]

National Oil and Hazardous Substances Pollution Contingency Plan; National Priorities List Update

AGENCY: Environmental Protection Agency.

ACTION: Notice of deletion of Chemform, Inc. Site from the National Priorities List.

SUMMARY: The Environmental Protection Agency (EPA) Region IV announces the deletion of the Chemform, Inc. Site (Site) in Pompano Beach, Broward County, Florida, from the National Priorities List (NPL). The NPL constitutes Appendix B of 40 CFR part 300 which is the National Oil and Hazardous Substances Pollution Contingency Plan (NCP) which EPA promulgated pursuant to section 105 of the Comprehensive Environmental Response, Compensation and Liability Act of 1980 (CERCLA), as amended. EPA and the Florida Department of Environmental Protection (FDEP) have determined that all appropriate response actions under CERCLA have been implemented and that no further response action is appropriate. Moreover, EPA and the FDEP have determined that the response actions conducted at the Site to date are protective of public health, welfare, and the environment.

EFFECTIVE DATE: July 28, 2000.

FOR FURTHER INFORMATION CONTACT: Mr. Jamey Watt, Remedial Project Manager, EPA Region IV, 61 Forsyth St. SW, Atlanta, Georgia, 30303, (404) 562-8920.

Comprehensive information on this Site is available through the EPA Region IV public docket, which is available for viewing at two locations. Locations and phone numbers are: USEPA Region IV Record Center, 61 Forsyth St. SW, Atlanta, Georgia 30303, (404) 562-8862 and the Broward County Main Public Library, Government Documents, 100 South Andrews Avenue N.E., Fort Lauderdale, Florida 33301.

SUPPLEMENTARY INFORMATION: The site to be deleted from the NPL is the Chemform, Inc. Site, Pompano Beach, Broward County, Florida.

EPA published a Notice of Intent to Delete the Chemform, Inc. Site from the NPL on May 9, 2000 in the Federal Register (65 FR 26803). EPA did not receive any comments on the proposed deletion. Therefore, no responsiveness summary is necessary for attachment to this Notice of Deletion.

EPA identifies sites which appear to present a significant risk to public health, welfare, or the environment and it maintains the NPL as the list of those sites. Sites on the NPL may be the subject of Hazardous Substances Superfund Response Trust Fund (Fund-financed) remedial actions. Any site deleted from the NPL remains eligible for Fund-financed remedial actions in the unlikely event that conditions at the site warrant such action. 40 CFR 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous waste, Hazardous substances, Intergovernmental relations, Penalties, Reporting and recordkeeping requirements, Superfund, Water pollution control, Water supply.

Dated: June 23, 2000.
A. Stanley Meiburg,
Acting Regional Administrator, Region IV.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p.351; E.O. 12580, 52 FR 2923, 3 CFR, 1987 Comp., p.193.

Appendix B—[Amended]

2. Table 1 of Appendix B to part 300 is amended by removing the site “Chemform, Inc., Pompano Beach, Florida.”

[FR Doc. 00-19118 Filed 7-27-00; 8:45 am]

BILLING CODE 6560-50-P